DEPARTMENT OF DEFENSE

Department of the Army, Corps of Engineers

Intent To Grant an Exclusive License for a U.S. Army Owned Invention to necoTECH, LLC

AGENCY: Department of the Army, U.S. Army Corps of Engineers, DoD.

ACTION: Notice.

SUMMARY: The Department of the Army announces that, unless there is an objection, after 15 days it intends to grant an exclusive license to necoTECH, LLC., a corporation having a place of business in Culpepper, VA on United States Patent No. 10,954,161 entitled “Performance Grade Asphalt Repair Composition,” filed September 14, 2016, and United States Patent Pub No. 2021/0380480 filed March 22, 2021.

DATES: Written objections must be filed by September 13, 2023.

ADDRESSES: Send written objections to U.S. Army Engineer Research and Development Center, ATTN: CEERD-ZBT-C (Mr. Eric L. Fox), 3909 Halls Ferry Road, Vicksburg, MS 39180-61996, or by email to: Eric.L.Fox@usace.army.mil.

FOR FURTHER INFORMATION CONTACT: U.S. Army Engineer Research and Development Center, ATTN: CEERD-ZBT-C (Mr. Eric L. Fox), 3909 Halls Ferry Road, Vicksburg, MS 39180-61996, Voice: 601-634-4113, Email: Eric.L.Fox@usace.army.mil.

SUPPLEMENTARY INFORMATION: Any license granted shall comply with 35 U.S.C. 209 and 37 CFR part 404.

Eric L. Fox,
Senior Technology Transfer Officer, U.S. Army Engineer Research and Development Center.

[FR Doc. 2023-18578 Filed 8-28-23; 8:45 am]

BILLING CODE 3720-58-P